DEPARTMENT OF STATE

[Public Notice 7548]

Notice of Public Meeting of the President's Emergency Plan for AIDS Relief (PEPFAR) Scientific Advisory Board

SUMMARY: In accordance with the Federal Advisory Committee Act (FACA), the PEPFAR Scientific Advisory Board (hereinafter referred to as “the Board”) will meet on September 14-15, 2011 at the House of Sweden Event Center, 2900 K Street, NW., Washington, DC 20007. The meeting will last from 9 a.m. until approximately 5 p.m. on the 14th and from 9 a.m. until approximately 3 p.m. on the 15th and is open to the public.

The meeting will be hosted by the Office of the U.S. Global AIDS Coordinator, Ambassador Eric Goosby, who leads implementation of the President's Emergency Plan for AIDS Relief (PEPFAR).

The Board serves the Global AIDS Coordinator in a solely advisory capacity concerning scientific, implementation, and policy issues related to the global response to HIV/AIDS. These issues will be of concern as they influence the priorities and direction of PEPFAR evaluation and research, the content of national and international strategies and implementation, and the role of PEPFAR in the international discourse regarding appropriate and resourced responses. Topics for the September 14-15th meeting will include an update on PEPFAR-funded evaluations, discussions on the policy relevance of the recent results regarding treatment for prevention, and recommendations to the Ambassador on the future direction of evaluation and research within PEPFAR.

The public may attend this meeting as seating capacity allows. Admittance to the meeting will be by means of a pre-arranged clearance list. In order to be placed on the list, please register at https://www.team-psa.com/pepfar/2011. While the meeting is open to public attendance, the Board will determine procedures for public participation.

For further information about the meeting, please contact Charles Holmes, Chief Medical Officer, Office of the U.S. Global AIDS Coordinator at (202) 663-2440 or HolmesCB@state.gov.

Dated: August 15, 2011.
Charles B. Holmes,
Chief Medical Officer, Office of the U.S. Global AIDS Coordinator, Department of State.

[FR Doc. 2011-21532 Filed 8-22-11; 8:45 am]

BILLING CODE 4710-10-P